DEPARTMENT OF JUSTICE

[CPCLO Order No. 03-2025]

Privacy Act of 1974; Systems of Records

AGENCY: Executive Office for Immigration Review, United States Department of Justice.

ACTION: Notice of a modified system of records. System of records notice republished in full.

SUMMARY: Pursuant to the Privacy Act of 1974 and Office of Management and Budget (OMB) Circular No. A-108, notice is hereby given that the Executive Office for Immigration Review (EOIR), a component within the United States Department of Justice (DOJ or Department), proposes to modify a system of records notice, JUSTICE/EOIR-001, previously titled “Records and Management Information System” and now retitled as “Adjudication and Appeal Records of the Office of the Chief Immigration Judge and Board of Immigration Appeals.” EOIR proposes this update and reissuance to notify the public of the expanded functionality of this system of records, which now includes new types of electronic records, as well as records previously covered by the Decisions of the Board of Immigration Appeals system of records, JUSTICE/BIA-001. This system of records will also adopt new and modified routine uses to better reflect the operation of the system.

DATES: In accordance with 5 U.S.C. 552a(e)(4) and (11), this notice is effective upon publication, subject to a 30-day period in which to comment on the routine uses, described below. Therefore, please submit any comments by September 29, 2025.

ADDRESSES: The public, OMB, and Congress are invited to submit any comments: by mail to the United States Department of Justice, Office of Privacy and Civil Liberties, ATTN: Privacy Analyst, Two Constitution Square, 145 N St. NE, Suite 8W-300, Washington, DC 20530; by facsimile at 202-307-0693; or by email at privacy.compliance@usdoj.gov. To ensure proper handling, please reference the above CPCLO Order No. on your correspondence.

FOR FURTHER INFORMATION CONTACT: Justine Fuga, Senior Component Official for Privacy, Office of the General Counsel; Executive Office for Immigration Review, 5107 Leesburg Pike, Suite 2600, Falls Church, VA 22041; Justine.Fuga@usdoj.gov; EOIR.Privacy.Intake@usdoj.gov.

SUPPLEMENTARY INFORMATION: EOIR is modifying this system of records, Adjudication and Appeal Records of the Office of the Chief Immigration Judge and Board of Immigration Appeals, JUSTICE/EOIR-001, to account for changes in the character, format, and routine uses of records in this system of records that have occurred since EOIR published the last system of records notice (SORN) for it on May 11, 2004. To clarify the scope of this system of records, EOIR is changing the title of this system from “Records and Management Information System” to “Adjudication and Appeal Records of the Office of the Chief Immigration Judge and Board of Immigration Appeals.” This new title is intended to clarify that JUSTICE/EOIR-001 primarily pertains to a subset of EOIR records used to process, track, and adjudicate immigration proceedings before the Office of the Chief Immigration Judge (OCIJ) and the Board of Immigration Appeals (Board).

EOIR is modifying this system of records to include electronic records that are part of the record of proceedings in cases adjudicated by OCIJ and the Board. Since 2018, OCIJ and the Board have generally used two electronic case management systems, the Case Access System for EOIR (CASE) and the EOIR Courts and Appeals System (ECAS), to generate, process, and maintain the electronic records in this system of records. CASE is an internal, web-based electronic case management system and database of immigration case information for OCIJ and the Board, designed to internally manage all aspects of an immigration proceeding and serve as an official data repository for immigration case data. ECAS is a suite of internal and public-facing, web-based applications to manage electronic notices, filings, exhibits, and other files in immigration proceedings before EOIR's immigration courts and the Board. The immigration courts and the Board primarily use ECAS to receive submissions of electronic filings from the parties in immigration proceedings, maintain and store the official electronic record of proceedings (eROP), and issue notices, orders, and decisions.

EOIR is further consolidating this system of records with the system of records entitled “Decisions of the Board of Immigration Appeals,” JUSTICE/BIA-001, 48 FR 5331 (Feb. 4, 1983). The records in both JUSTICE/EOIR-001 and JUSTICE/BIA-001 serve the same purposes, are authorized by the same legal authorities, and have the same routine uses. This modified SORN for JUSTICE/EOIR-001 will encompass all records contained in JUSTICE/BIA-001, which will be rescinded.

EOIR is also modifying the routine uses for this system of records to reflect EOIR's current information sharing practices. Specifically, EOIR separated out the seven routine uses previously consolidated under Routine Use A into individual routine uses, with modifications as described below, and included new applicable routine uses for disclosures to authorized entities, as determined to be relevant and necessary, for purposes which are consistent and compatible with the purpose for which the information was collected. For the reasons discussed below, these new and modified routine uses satisfy the compatibility requirement of the Privacy Act.

Routine Use 1 clarifies that EOIR may, at the immigration judge's discretion, disseminate information to the Department of State for comment on individual cases or types of claims under consideration by an immigration judge, including advisory opinions regarding applications for asylum, withholding of removal, or protection under the Convention Against Torture, consistent with 8 CFR 1208.11. Previously, this routine use was limited to sharing information with Department of State to obtain advisory opinions on political asylum applications only.

Routine Uses 2 and 6 relate to disclosures to the parties to the proceedings before EOIR, namely the Department of Homeland Security (DHS) and the representative or attorney for the individual in immigration proceedings. Similarly, Routine Use 4 relates to disclosures to Health and Human Services (HHS) as the custodian of some individuals in immigration proceedings.

Routine Use 3 provides that information may be shared with other Federal agencies, such as DHS, HHS, and the Social Security Administration (SSA), as the administrators of federal benefits programs to verify eligibility for benefits. The fact that an individual is in proceedings before EOIR, and the outcome of such proceedings, may constitute evidence necessary to determine eligibility for certain federal benefits.

Routine Use 5 provides that EOIR may disseminate information to the Administrative Office of the United States Courts (AOUSC) in connection with judicial review of EOIR administrative decisions. The AOUSC is the administrative headquarters and central support entity of the Federal court system. EOIR's final administrative orders of removal may be subject to judicial review, pursuant to 8 U.S.C. 1252, and in connection with this review, EOIR shares certified copies of records in this system with the AOUSC.

Routine Uses 7, 8, and 9 provide that EOIR may share: aggregate statistical information with the U.S. Commission for International Religious Freedom for the purpose of preparing a variety of reports advising on the status of religious freedom abroad, see 22 U.S.C. 6412; information with the United Nations High Commissioner for Refugees to demonstrate compliance with the 1967 Protocol to the 1951 Refugee Convention; and information with certain individuals in immigration proceedings designated as “leads” and “riders,” where the immigration relief for one individual may turn on the outcome of the other's immigration proceeding and vice-versa.

The remaining routine uses were previously published in JUSTICE/EOIR-001 or JUSTICE/BIA-001, with the addition of two new common routine uses, one in litigation for the purpose of negotiation or discussion of such matters as settlement, plea bargaining, or information discovery proceedings, and the other for audits and oversight.

Finally, EOIR claims that properly classified materials and information in this modified system of records is exempt from 5 U.S.C. 552a(d) pursuant to 5 U.S.C. 552a(k)(1) and (k)(2). This modified SORN will replace the two systems of records for which these exemptions were originally claimed (JUSTICE/EOIR-001 and JUSTICE/BIA-001) and published in the Federal Register at 28 CFR 16.83 and 16.84.

In accordance with 5 U.S.C. 552a(r), the Department has provided a report to OMB and Congress on this notice of a modified system of records.

Dated: August 26, 2025.
Peter Winn,
Chief Privacy and Civil Liberties Officer, United States Department of Justice.

JUSTICE/EOIR-001

SYSTEM NAME AND NUMBER:

Adjudication and Appeal Records of the Office of the Chief Immigration Judge and Board of Immigration Appeals.

SECURITY CLASSIFICATION:

Not classified.

SYSTEM LOCATION:

Executive Office for Immigration Review, Department of Justice, 5107 Leesburg Pike, Suite 2600, Falls Church, Virginia 22041. The system is also located in EOIR's immigration courts and adjudication centers and the Board of Immigration Appeals (Board). EOIR's website, http://www.usdoj.gov/eoir/, maintains a current address listing of all EOIR immigration courts and adjudication centers. Electronic records are maintained in EOIR's electronic case management systems, the Case Access System for EOIR (CASE) and the EOIR Courts and Appeals System (ECAS), and the records are stored in the DOJ EOIR Microsoft Azure Cloud.

SYSTEM MANAGER(S):

Chief Immigration Judge, Executive Office for Immigration Review, U.S. Department of Justice, 5107 Leesburg Pike, Suite 2500, Falls Church, Virginia 22041.

Chief Appellate Immigration Judge, Executive Office for Immigration Review, U.S. Department of Justice, 5107 Leesburg Pike, Suite 2000, Falls Church, Virginia 22041.

Chief Information Officer, Office of Information Technology (OIT), Executive Office for Immigration Review, Department of Justice, 4825 Mark Center Drive, Suite 200, Alexandria, VA 22311.

* * * * *

AUTHORITY FOR MAINTENANCE OF THE SYSTEM:

The authorities for the maintenance of this system of records include: 8 U.S.C. 1101 et seq., 1103(g), 1158, 1159, 1154, 1229a, 1255, 1255a; 31 U.S.C. Ch. 33; 31 U.S.C. 3720; 44 U.S.C. 3101 and 3103; 8 CFR parts 1001 and 1003; 8 CFR 103.7; 8 CFR 1103.7; 8 CFR 1240.9; 8 CFR 1292.1; 28 CFR 16.10; and 28 CFR part 68.

PURPOSE(S) OF THE SYSTEM:

Information in this system is primarily used to facilitate agency adjudication processes for two of EOIR's adjudicating components: the Office of the Chief Immigration Judge (OCIJ) and the Board of Immigration Appeals (Board). Information in this system serves as an official record of immigration proceedings. EOIR employees use the information to adjudicate cases; conduct appellate reviews; prepare, process and track immigration proceedings; schedule and conduct administrative hearings; prepare administrative orders and decisions; and generate statistical reports.

CATEGORIES OF INDIVIDUALS COVERED BY THE SYSTEM:

This system contains case-related information pertaining to individuals in immigration proceedings and cases adjudicated by EOIR's immigration courts and the Board, including certain individuals previously or subsequently admitted for lawful permanent residence and persons who have since become United States Citizens. The system also includes information pertaining to: (1) EOIR personnel, such as immigration judges (IJs), appellate immigration judges (AIJs), and court staff; (2) other federal government personnel, such as the Department of Homeland Security (DHS) attorney of record for the U.S. Government; (3) the relatives, friends, family members, and associates of individuals in immigration proceedings; and (4) individuals representing persons in immigration proceedings, including attorneys and accredited representatives practicing before the immigration courts and the Board.

CATEGORIES OF RECORDS IN THE SYSTEM:

The categories of records in this system include information relating to:

(1) Matters before the immigration courts and the Board, including but not limited to claims for relief from removal, such as asylum, cancellation of removal, and adjustment of status, review of credible fear and reasonable fear determinations, custody redetermination and decisions from the review of DHS decisions regarding certain family-based immigration petitions, waivers of inadmissibility for certain nonimmigrants, and fines.

(2) Internal agency systems that track the physical locations of paper Records of Proceedings (ROPs), create and maintain audio recordings of in-person, telephonic, and virtual immigration proceedings, and manage transcription and language interpreter services providing data used in immigration proceedings.

(3) Registration information pertaining to practitioners seeking to represent individuals in EOIR immigration proceedings.

(4) A payment function for members of the public who wish to electronically pay filing fees for document filings providing data used to allow for further processing of immigration proceedings.

Matters before the immigration courts and the Board are documented in a paper or electronic ROP, which contains orders, decisions, investigatory reports and materials compiled for the purpose of enforcing immigration laws, exhibits, audio recordings and transcripts of proceedings, and other case-related materials pertaining to individuals in immigration proceedings. Case management data and internal agency case processing actions are recorded in EOIR's internal, web-based electronic case management system and database for the immigration courts and the Board.

RECORD SOURCE CATEGORIES:

Department of Justice offices and employees, the Department of Homeland Security, the Department of State, the Department of Health and Human Services, and other Federal, State, local, and Tribal government entities; and the parties to immigration proceedings, their attorneys or representatives, witnesses or sponsors, and other individuals authorized to file documents in proceedings before EOIR.

ROUTINE USES OF RECORDS MAINTAINED IN THE SYSTEM, INCLUDING CATEGORIES OF USERS AND THE PURPOSES OF SUCH USES:

Information may be disseminated as follows:

(1) To the Department of State, pursuant to a request from an immigration judge per 8 CFR 1208.11, as necessary for the Department of State to provide comments regarding individual cases or types of claims under consideration, or other information the immigration judge deems appropriate, including advisory opinions regarding applications for asylum under 8 U.S.C. 1158, for withholding of removal under 8 U.S.C. 1231, for withholding or deferral of removal under the Convention Against Torture as provided in 8 CFR 1208.16 and 1208.17, or for withholding of deportation under former section 243(h) of the Immigration and Nationality Act.

(2) To the Department of Homeland Security as one of the parties to EOIR proceedings, as an entity affected by EOIR decisions, and as the agency that enforces EOIR decisions.

(3) To Federal agencies, such as the Department of Homeland Security, Department of Health and Human Services, and Social Security Administration, as the administrators of federal benefits programs, as necessary to verify an individual's eligibility for benefits.

(4) To the Department of Health and Human Services as the custodian of some individuals in immigration proceedings.

(5) To the Administrative Office of the United States Courts for the adjudication of a petition for review of a final administrative decision; or in an appropriate proceeding before a court, grand jury, or administrative or adjudicative body, when the Department of Justice determines that the records are arguably relevant to the proceeding; or in an appropriate proceeding before an administrative or adjudicative body when the adjudicator determines the records to be relevant to the proceeding.

(6) To the representative or attorney of record for an individual in immigration proceedings.

(7) To the U.S. Commission for International Religious Freedom as necessary to perform its official mission pursuant to the International Religious Freedom Act of 1998, as amended (22 U.S.C. 6401 et seq.).

(8) To the United Nations High Commissioner for Refugees, pursuant to the U.S. accession to the 1967 Protocol to the 1951 Refugee Convention, as necessary to satisfy U.S. responsibilities and reporting obligations.

(9) To individuals designated as a “lead” in proceedings before EOIR who submit a Form I-589, Application for Asylum and for Withholding of Removal, identifying derivatives, such as a “spouse” as defined in 8 U.S.C. 1101(a)(35), or a “child” or “children” as defined in 8 U.S.C. 1101(b)(1)(A), (B), (C), (D), or (E) (i.e., “riders”), EOIR may disclose copies of case files pertaining to the “riders”; and to individuals designated as “riders,” EOIR may disclose copies of case files pertaining to “leads”; where the disclosure is necessary as a matter of due process for the lead or rider in their respective immigration proceedings, and the lead-rider relationship has not been severed.

(10) To members of the public, in the case of Attorney General (AG) decisions and selected Board decisions, designated as precedent decisions pursuant to 8 CFR 103.10(b). These decisions are published online to provide the public with guidance on the administrative interpretation of the immigration laws and to facilitate open and uniform adjudication of cases and are available on EOIR's website at https://www.justice.gov/eoir/ag-bia-decisions.

(11) Where a record, either alone or in conjunction with other information, indicates a violation or potential violation of law—criminal, civil, or regulatory in nature—the relevant records may be referred to the appropriate Federal, State, local, territorial, Tribal, or foreign law enforcement authority or other appropriate entity charged with the responsibility for investigating or prosecuting such violation or with enforcing and implementing such law.

(12) To an actual or potential party to litigation or the party's authorized representative for the purpose of negotiation or discussion of such matters as settlement, plea bargaining, or information discovery proceedings.

(13) To Federal, state, local, territorial, tribal, foreign, or international licensing agencies or associations which require information concerning the suitability or eligibility of an individual for a license or permit.

(14) To contractors, grantees, experts, consultants, students, and others performing or working on a contract, service, grant, cooperative agreement, or other assignment for the Federal Government, when necessary to accomplish an agency function related to this system of records.

(15) To a Member of Congress or staff acting upon the Member's behalf when the Member or staff requests the information on behalf of, and at the request of the individual, who is the subject of the record.

(16) To the National Archives and Records Administration (NARA) in records management inspections conducted under the authority of 44 U.S.C. 2904 and 2906.

(17) To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

(18) To another Federal agency or Federal entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

(19) To any agency, organization, or individual, such as the Government Accountability Office, the Department's Office of the Inspector General, or the Office of Special Counsel, for the purpose of performing authorized audit or oversight operations of EOIR, including those related to fraud, waste, and abuse, and meeting related reporting requirements.

(20) To such recipients and under such circumstances and procedures as are mandated by Federal statute, regulation, or treaty.

POLICIES AND PRACTICES FOR STORAGE OF RECORDS:

Physical records are maintained in hard-copy, paper format in secure filing cabinets, office spaces, and storage locations, including Federal Records Centers. Electronic records and data are stored in electronic media via a configuration of government servers. Stored records are organized by the number of the alien registration proceeding (A-number) or fine proceeding. The assigned case number for the individual or carrier in a fine proceeding is called a “fine number”.

POLICIES AND PRACTICES FOR RETRIEVAL OF RECORDS:

Records may be retrieved from paper and electronic systems by A-number, fine number, name, nationality, EOIR ID number, and/or Federal Records Center (FRC) transfer number. Records may only be retrieved by authorized DOJ personnel on a need-to-know basis.

POLICIES AND PRACTICES FOR RETENTION AND DISPOSAL OF RECORDS:

Records are retained in accordance with EOIR's Agency Records Control Schedules. The records in EOIR's Case Access System for EOIR (CASE), which contains immigration case information, including appeals, contain identification and biographic data of noncitizens, testimony, decisions rendered, important dates and actions in each proceeding, as well as information about practitioners of record, and docket listings of all documents filed in proceedings. Case records are designated as permanent pursuant to EOIR-N1-60-08-7 (closed records are cut off annually and transferred to the National Archive and Records Administration (NARA) 25 years after cutoff).

ROPs are temporary records with a retention period of 50 years after cutoff (DAA-0582-2024-0002); Bond Proceeding Files are temporary records with a retention period of two to 20 years after cutoff (DAA-0582-2014-0002; DAA-0582-2023-0001); Digital Audio Recordings (DAR) are temporary records with a retention period of 25 years after cutoff (N1-060-08-007), or eight years after cutoff if stored on a cassette tape (NC1-085-81-03).

EOIR is in the process of drafting and obtaining NARA approval of new records schedules, which may implement new retention periods for both scheduled and unscheduled records in this system of records. Unscheduled records will be retained until they are scheduled.

ADMINISTRATIVE, TECHNICAL, AND PHYSICAL SAFEGUARDS:

Information in this system is maintained in accordance with applicable laws, rules, and policies that protect individual privacy. Servers storing electronic data and backup records stored on-site are in locked rooms with access restricted to authorized agency personnel. Backup records stored off-site are maintained in accordance with applicable laws, rules, and policies. Internet connections are protected by multiple firewalls. Security personnel conduct periodic vulnerability scans using DOJ-approved software to ensure security compliance, and security logs are enabled for all computers to assist in troubleshooting and forensics analysis during incident investigations. Users of individual computers can only gain access to the data by authorized user identification and authentication processes. Paper records are stored in secure locations accessible only to those with a need to access the information. In addition, the parties in immigration proceedings will be able to submit and access information specifically related to their immigration proceedings using EOIR's secure public-facing web-based applications.

RECORD ACCESS PROCEDURES:

Portions of this system may be exempt from disclosure pursuant to 5 U.S.C. 552a(k)(1) and (k)(2). All requests for access to records must be made in writing and include a general description of the records sought and information about the record subject, including but not limited to, the record subject's full name, date of birth, place of birth, and alien registration number (A-number), where applicable. See 28 CFR 16.41; 28 CFR part 16 Appendix I. If the A-number is not known, or the case occurred before 1988, the date of an Order to Show Cause, country of origin, and location of the immigration hearing must be provided. See 28 CFR part 16 Appendix I.

All requests for access to records may be submitted by mail to the EOIR FOIA Service Center at 5107 Leesburg Pike, Suite 2600, Falls Church, VA 22041, by email at EOIR.FOIARequests@usdoj.gov, or online through the EOIR FOIA Public Access Link, available at https://foia.eoir.justice.gov/app/Home.aspx. Additional information for submitting requests to the FIOA Service Center can be found at https://www.justice.gov/eoir/foia-submit-a-request.

Unrepresented individuals in proceedings before an immigration court or the Board who have registered and received approval for an account in the EOIR Respondent Access Portal may access a complete copy of their own eROP through the portal, available at https://www.justice.gov/eoir/respondentaccess. Attorneys and Accredited Representatives may access a client's eROP online through the EOIR Court & Appeals System (ECAS) Case Portal. Attorneys for DHS may access eROPs through the ECAS DHS Portal. Links to the ECAS Portals are available at https://www.justice.gov/eoir/ECAS.

Requests for ROPs may also be made directly with the immigration court or the Board by individuals for their own ROP, by individuals for their minor children, or by attorneys or representatives of record. Requests may be made by email, mail, or in person at the immigration court where the last hearing was scheduled. Requests may be made by email or mail to the Board if the case is pending before the Board. Instructions for filing an ROP request can be found at https://www.justice.gov/eoir/ROPrequest.

Requests must be signed and either notarized or submitted under penalty of perjury. Although no specific form is required, individuals may use Form EOIR-59, Certification and Release of Records, available at https://www.justice.gov/eoir/eoir-forms, or obtain forms for this purpose from the FOIA/Privacy Act Mail Referral Unit, U.S. Department of Justice, 950 Pennsylvania Avenue NW, Washington, DC 20530, or on the Department of Justice website at http://www.justice.gov/oip/oip-request-html. Individuals requesting records on behalf of a child or client are required to provide additional information about themselves and their relationship to the record subject.

More information regarding the Department's procedures for accessing records in accordance with the Privacy Act can be found at 28 CFR part 16 Subpart D, “Protection of Privacy and Access to Individual Records Under the Privacy Act of 1974.”

CONTESTING RECORD PROCEDURES:

Individuals seeking to contest or amend information maintained in the system should direct their requests to the EOIR Office of the General Counsel, 5107 Leesburg Pike, Suite 2600, Falls Church, VA 22041, or through the Public Access Link, available at https://foia.eoir.justice.gov/app/Home.aspx, stating clearly and concisely what information is being contested, the reasons for contesting it, and the proposed amendment to the information sought. Some information may be exempt from the amendment provisions as described in the section below entitled “Exemptions Promulgated for the System.” An individual who is the subject of a record in this system may seek amendment of those records that are not exempt. A determination of whether a record is exempt from amendment will be made after a request is received.

NOTIFICATION PROCEDURES:

Individuals may be notified if a record in this system of records pertains to them when the individuals request information utilizing the same procedures as those identified in the “RECORD ACCESS PROCEDURES” paragraph, above. Individuals may also receive notice pursuant to 5 U.S.C. 552a(e)(3) when they register for an ECAS account, when they access a web-based EOIR information system, or when they complete forms and applications for relief in immigration court or before the Board.

EXEMPTIONS PROMULGATED FOR THE SYSTEM:

The Attorney General has exempted certain records of this system from the access provisions of the Privacy Act (5 U.S.C. 552a(d)), pursuant to 5 U.S.C. 552a(k)(1) and (k)(2)). Rules have been promulgated in accordance with the requirements of 5 U.S.C. 553(b), (c), and (e) and have been published in the Federal Register and are codified at 28 CFR 16.83(a) and (b).

* * * * *

HISTORY:

EOIR-001, Records and Management Information System, 69 FR 26179 (May 11, 2004), 72 FR 3410 (Jan. 25, 2007) (rescinded by 82 FR 24147), 82 FR 24147 (May 25, 2017).

BIA-001, Decisions of the Board of Immigration Appeals, 48 FR 5331 (Feb. 4, 1983); 66 FR 8425 (Jan. 31, 2001); 72 FR 3410 (Jan. 25, 2007) (rescinded by 82 FR 24147); 82 FR 24147 (May 25, 2017).

[FR Doc. 2025-16644 Filed 8-28-25; 8:45 am]

BILLING CODE 4410-30-P